AGENCY FOR INTERNATIONAL DEVELOPMENT

Senior Executive Service: Membership of Performance Review Board

ACTION: Notice.

SUMMARY: The following persons are members of the Performance Review Board for 2002.

Members: Arnold J. Haiman, Chair, Adrienne R. Rish, SES Member, Franklin C. Moore, SES Member, James E. Painter, SES Member, Jessalyn L. Pendarvis, SES Member.

FOR FURTHER INFORMATION CONTACT: Dan Stoll, 202-712-1076.

Dated: November 22, 2002.
Irma Marshall,
Acting Chief, M/HR/EM.

[FR Doc. 02-30226 Filed 11-29-02; 8:45 am]

BILLING CODE 6116-01-P